DEPARTMENT OF ENERGY

Federal Energy Regulatory Commission

Notice of Request To Use Alternative Procedures in Preparing an Application for Exemption From Licensing

July 9, 2003.

Take notice that the following request to use alternative procedures to prepare an application for exemption from licensing has been filed with the Commission.

a. Type of Application: Request to use alternative procedures to prepare an application for exemption of a small hydroelectric power project from licensing.

b. Project No.: 11880-003.

c. Date filed: June 13, 2003.

d. Applicant: Colorado River Water Conservation District (River District).

e. Name of Project: Ritschard Dam Unit Water Power Project.

f. Location: On Muddy Creek, in Grand County, Colorado. The proposed project would occupy 557 acres of federal lands managed by the Bureau of Land Management.

g. Filed Pursuant to: Public Utility Regulatory Policies Act of 1978, 16 U.S.C. 2705, 2708.

h. Applicant Contact: James F. Pearce, Project Manager, Colorado River Water Conservation District, PO Box 1120, 201 Centennial Street, Suite 200, Glenwood Springs, CO 81602, (970) 945-8522.

i. FERC Contact: Dianne Rodman at (202) 502-6077; e-mail dianne.rodman@ferc.gov.

j. Deadline for Comments: 30 days from the date of this notice.

All documents (original and eight copies) should be filed with: Magalie R. Salas, Secretary, Federal Energy Regulatory Commission, 888 First Street, NE., Washington, DC 20426.

Comments may be filed electronically via the Internet in lieu of paper. The Commission strongly encourages electronic filings. See 18 CFR 385.2001(a)(1)(iii) and the instructions on the Commission's Web site (http://www.ferc.gov) under the “e-Filing” link.

k. The existing 120-foot-high, 2,100-foot-long Ritschard dam impounds the Wolford Mountain reservoir, which has a normal surface area of 1,550 acres and a storage volume of 65,985 acre-feet. The proposed powerhouse would be located at the toe of the dam next to the existing control house/terminal structure. The powerhouse would contain a single turbine and generator with a rated capacity of about 870 kilowatts. The average annual power generation would be 3,700 kilowatt-hours.

l. A copy of the request to use alternative procedures is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/esubscribenow.htm to be notified via email of new filings and issuances related to this or other pending projects. For assistance, contact FERC Online Support.

m. The River District has demonstrated that it has made an effort to contact all federal and state resources agencies, non-governmental organizations (NGO), and others affected by the project. The River District has also demonstrated that a consensus exists that the use of alternative procedures is appropriate in this case. The River District has submitted a communications protocol that is supported by the stakeholders.

The purpose of this notice is to invite any additional comments on the River District's request to use the alternative procedures, pursuant to Section 4.34(i) of the Commission's regulations. Additional notices seeking comments on the specific project proposal, interventions and protests, and mandatory terms and conditions will be issued at a later date. The River District will complete and file a preliminary Environmental Assessment, in lieu of Exhibit E of the exemption application. This differs from the traditional process, in which an applicant consults with agencies, Indian tribes, NGOs, and other parties during preparation of the exemption application and before filing the application, but the Commission staff performs the environmental review after the application is filed. The alternative procedures are intended to simplify and expedite the exemption process by combining the pre-filing consultation and environmental review processes into a single process, to facilitate greater participation, and to improve communication and cooperation among the participants.

The River District intends to file 6-month progress reports during the alternative procedures process that leads to the filing of an exemption application by February 2005.

Magalie R. Salas,
Secretary.

[FR Doc. 03-17880 Filed 7-15-03; 8:45 am]

BILLING CODE 6717-01-P